DEPARTMENT OF JUSTICE

Drug Enforcement Administration

[Docket No. DEA-856]

Bulk Manufacturer of Controlled Substances Application: Purisys, LLC.

AGENCY: Drug Enforcement Administration, Justice.

ACTION: Notice of application.

SUMMARY: Purisys, LLC. has applied to be registered as a bulk manufacturer of basic class(es) of controlled substance(s). Refer to Supplemental Information listed below for further drug information.

DATES: Registered bulk manufacturers of the affected basic class(es), and applicants therefore, may file written comments on or objections to the issuance of the proposed registration on or before August 23, 2021. Such persons may also file a written request for a hearing on the application on or before August 23, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on March, 12, 2021, Purisys, LLC., 1550 Olympic Drive, Athens, Georgia 30601-1602, applied to be registered as a bulk manufacturer of the following basic class(es) of controlled substance(s):

Controlled substance | Drug code | Schedule
3,4-Methylenedioxyamphetamine | 7400 | I
3,4-Methylenedioxymethamphetamine | 7404 | I
3,4-Methylenedioxy-N-ethylamphetamine | 7405 | I
Psilocybin | 7437 | I
Psilocyn | 7438 | I

The company plans to bulk manufacture the listed controlled substances for the internal use intermediates or for sale to its customers. The company plans to manufacture the above-listed controlled substances as clinical trial and starting materials to make compounds for distribution to its customers. No other activity for these drug codes is authorized for this registration.

William T. McDermott,
Assistant Administrator.

[FR Doc. 2021-13096 Filed 6-22-21; 8:45 am]

BILLING CODE P